DEPARTMENT OF DEFENSE

Department of the Army; Corps of Engineers

Availability of Draft Environmental Impact Statement for the Raritan Bay and Sandy Hook Bay, Combined Flood Control and Shore Protection Project, Union Beach, Monmouth County, NJ

AGENCY: Department of the Army, U.S. Army Corps of Engineers, DoD.

ACTION: Notice of availability.

SUMMARY: The New York District of the U.S. Army Corps of Engineers (Corps) is issuing this notice to announce the availability for public review and comment of a Draft Environmental Impact Statement (DEIS) for proposed measures to provide flood control and storm damage protection in Union Beach, New Jersey. The DEIS has been prepared in accordance with the National Environmental Policy Act (NEPA). The DEIS evaluates the potential adverse and beneficial environmental impacts that may result from the implementation of the restoration of the beach berm and dune, periodic beach renourishment, and construction of storm damage reduction measures. The DEIS documents and addresses the environmental impacts of the following projects: Union Beach including Chingarora Creek, Flat and East Creeks, and the Bay Shore.

The selected plan consists of three major elements: (1) Chingarora Creek levee and floodwall; (2) Bay Shore beach and dune incorporating terminal groins with adjoining revetments; and (3) Flat and East creeks floodwall and levee alignment. In addition to the initial construction, the selected plan includes periodic renourishment of the Bay Shore element. Public comments on the DEIS will assist in the Corps' evaluation of the project and will be reflected in the final EIS.

Written comments received within 45 days of the publication of the Environmental Protection Agency's notice of availability will be considered by the Corps in preparing the final EIS.

FOR FURTHER INFORMATION CONTACT: Mr. Howard Ruben, Environmental Analyst, Planning Division, Environmental Analysis Branch, U.S. Army Corps of Engineers, New York District, 26 Federal Plaza, Room 2151, New York, NY 10278-0090, at (212) 264-0206 or at howard.ruben@.usace.army.mil. Written comments are to be provided to Mr. Ruben.

SUPPLEMENTARY INFORMATION: 1. The Corps is currently evaluating a hurricane and storm damage reduction study to provide hurricane and storm protection to residential, commercial, and recreational resources in the Borough of Union Beach, located along the Raritan Bay and Sandy Hook Bay (RBSHB) shoreline and adjacent areas in Monmouth County, NJ. Hurricanes, northeasters, and extratropical storms have historically damaged shorefronts, beaches, homes, commercial properties, and community infrastructures. Erosion of the beach and the lack of long-term shore protection measures have resulted in deterioration of the natural beachfront dune complexes in the study area. Severe storm events have flooded the areas and stranded residents in their homes. Consequently, there has been a reduction in the capability of the study area beaches and the low-lying terrain, to provide long-term protection from damages caused by hurricanes and severe storms such as northeasters. In addition, the threat of future storms in the study area poses a danger to local residents and business owners.

2. The Union Beach, New Jersey Beach Hurricane and Storm Damage Reduction Study, was originally authorized for construction as part of the RBSHB Project, New Jersey, in the Flood Control Act of October 23, 1962, in accordance with House Document Number 464, 87th Congress, Second Session.

Leonard Houston,
Chief, Environmental Analysis Branch.

[FR Doc. 03-16178 Filed 6-27-03; 8:45 am]

BILLING CODE 3710-06-M